DEPARTMENT OF COMMERCE

International Trade Administration

[A-570-848]

Freshwater Crawfish Tail Meat from the People's Republic of China; Notice of Extension of Time Limit for the Preliminary Results of the 2005-2006 Antidumping Duty Administrative Review and New Shipper Reviews

AGENCY: Import Administration, International Trade Administration, Department of Commerce.

EFFECTIVE DATE: May 30, 2007.

FOR FURTHER INFORMATION CONTACT: Melissa Blackledge or Jeff Pedersen, AD/CVD Operations, Office 4, Import Administration, International Trade Administration, U.S. Department of Commerce, 14th Street and Constitution Avenue, NW, Washington, DC 20230; telephone: (202) 482-3518 and (202) 482-2769, respectively.

SUPPLEMENTARY INFORMATION:

Background

On October 30, 2006, the Department of Commerce (“Department”) published a notice of initiation of four new shipper reviews of the antidumping duty order on freshwater crawfish tail meat from the People's Republic of China (“PRC”). See Freshwater Crawfish Tail Meat From the People's Republic of China: Initiation of Antidumping Duty New Shipper Reviews, 71 FR 63284 (October 30, 2006). On October 31, 2006, the Department published a notice of initiation of administrative review of the antidumping duty order on freshwater crawfish tail meat from the PRC. See Initiation of Antidumping and Countervailing Duty Administrative Reviews, 71 FR 63752 (October 31, 2006). On March 23, 2007, the Department aligned the time limits in the new shipper reviews with the time limits in the administrative review. See Freshwater Crawfish Tail Meat From the People's Republic of China: Notice of Postponement of Time Limits for New Shipper Antidumping Duty Reviews in Conjunction With Administrative Review, 72 FR 13744 (March 23, 2007). The period of review is September 1, 2005, through August 31, 2006. The preliminary results of the administrative review and the new shipper reviews are currently due no later than June 2, 2007.

Extension of Time Limit for Preliminary Results

Pursuant to section 751(a)(3)(A) of the Tariff Act of 1930, as amended (“Act”), the Department shall make a preliminary determination in an administrative review of an antidumping order within 245 days after the last day of the anniversary month of the date of publication of the order. Section 751(a)(3)(A) of the Act further provides, however, that the Department may extend the 245-day period to 365 days if it determines it is not practicable to complete the review within the foregoing time period. The Department has determined that it is not practicable to complete the instant administrative review and the new shipper reviews within the time limits mandated by section 751(a)(3)(A) of the Act because it requires additional time to analyze several complex sales reporting issues. Therefore, in accordance with section 751(a)(3)(A) of the Act, the Department is extending the time period for completing the preliminary results of the instant administrative review and new shipper reviews until October 1, 2007, the first business day after the fully extended due date of September 30, 2007. The deadline for the final results of these reviews continues to be 120 days after the publication of the preliminary results.

This extension notice is issued and published in accordance with sections 751(a)(3)(A) and 777(i) of the Act.

Dated: May 22, 2007.
Stephen J. Claeys,
Deputy Assistant Secretary for Import Administration.

[FR Doc. E7-10365 Filed 5-29-07; 8:45 am]

BILLING CODE 3510-DS-S